DEPARTMENT OF HOMELAND SECURITY

[Docket No. DHS-2022-0045]

Homeland Security Advisory Council

AGENCY: Office of Partnership and Engagement (OPE), Department of Homeland Security (DHS).

ACTION: Notice of closed Federal advisory committee meeting.

SUMMARY: The Homeland Security Advisory Council (HSAC) will meet virtually on Wednesday, September 14, 2022. The meeting will be closed to the public.

DATES: The meeting will take place from 2:30 p.m. ET to 3:30 p.m. ET on Wednesday, September 14, 2022.

Public Participation: The meeting will be closed to the public.

FOR FURTHER INFORMATION CONTACT: Rebecca Sternhell, Executive Director, HSAC at 202-891-2876 or HSAC@hq.dhs.gov.

SUPPLEMENTARY INFORMATION: Notice of this meeting is given under Section 10(a) of the Federal Advisory Committee Act (FACA), Public Law 92-463 (5 U.S.C. appendix), which requires a portion of each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The HSAC will meet in a closed session from 2:30 p.m. to 3:30 p.m. ET to participate in sensitive discussions with DHS senior leadership regarding current state of threats to the nation's cybersecurity and critical infrastructure.

Basis for Closure: In accordance with section 10(d) of FACA, the Secretary of Homeland Security has determined this meeting must be closed during this session as the disclosure of the information relayed would be detrimental to the public interest for the following reasons:

The Council meeting will include an operational discussion on the nation's cybersecurity that contains For Official Use Only and Law Enforcement Sensitive information. Specifically, the Council will be briefed on DHS operations related to threats on the nation's cybersecurity and efforts the Department is taking to mitigate these threats. Senior Leadership will provide detailed information on the current state of threats to the nation's cybersecurity. The session is closed pursuant to 5 U.S.C. 552b(c)(7) and(9)(B).

Dated: August 26, 2022.
Michael J. Miron,
Deputy Executive Director, Homeland Security Advisory Council, Department of Homeland Security.

[FR Doc. 2022-18819 Filed 8-30-22; 8:45 am]

BILLING CODE 9112-FN-P